DEPARTMENT OF STATE

[Public Notice: 11701]

Notice of Receipt of Request From the Government of the Islamic Republic of Pakistan Under Article 9 of the 1970 UNESCO Convention on the Means of Prohibiting and Preventing the Illicit Import, Export and Transfer of Ownership of Cultural Property

ACTION: Notice.

SUMMARY: Notice of receipt of request from Pakistan for cultural property protection.

FOR FURTHER INFORMATION CONTACT: Anne Compton, Cultural Heritage Center, Bureau of Educational and Cultural Affairs: 202-632-6301; culprop@state.gov.

SUPPLEMENTARY INFORMATION: The Government of the Islamic Republic of Pakistan made a request to the Government of the United States on May 4, 2021, under Article 9 of the 1970 UNESCO Convention on the Means of Prohibiting and Preventing the Illicit Import, Export and Transfer of Ownership of Cultural Property. Pakistan's request seeks U.S. import restrictions on archaeological and ethnological material representing Pakistan's cultural patrimony. The Cultural Heritage Center website provides instructions for public comment and additional information on the request, including categories of archaeological and ethnological material that may be included in import restrictions: https://eca.state.gov/highlight/cultural-property-advisory-committee-meeting-april-26-27-2022. This notice is published pursuant to authority vested in the Assistant Secretary of State for Educational and Cultural Affairs and pursuant to 19 U.S.C. 2602(f)(1).

Allison Davis,
Executive Director, Cultural Property Advisory Committee, Bureau of Educational and Cultural Affairs, Department of State.

[FR Doc. 2022-07123 Filed 4-4-22; 8:45 am]

BILLING CODE 4710-05-P